DEPARTMENT OF JUSTICE

Notice of Lodging of Consent Decree Under the Clean Water Act

Notice is hereby given that on July 20, 2010, a proposed Consent Decree in United States v. Cardi Materials, LLC (“Cardi”) Civil Action No. 10-300 (ML), was lodged with the United States District Court for the District of Rhode Island.

In this action, the United States seeks, inter alia, injunctive relief in relation to discharges by Cardi from its concrete and asphalt manufacturing facility, in violation of, and at times in the absence of a National Pollutant Discharge Elimination System Permit issued under the Clean Water Act, 33 U.S.C. 1251, et seq., and with respect to violations of the Oil Pollution Prevention regulations at 40 CFR part 112. The Consent Decree requires Cardi, among other things, to: (1) Eliminate process water discharge; (2) maintain compliance with applicable storm water discharge permits and its storm water prevention plan; (3) maintain compliance with a suitable spill prevention control and countermeasure plan; (4) designate a qualified environmental compliance officer; (5) conduct employee training; and (6) conducting quarterly storm water sampling. The Consent Decree also requires Cardi to pay a civil penalty of $55,000.00 and undertake a Supplemental Environmental Project.

The Department of Justice will receive for a period of thirty (30) days from the date of this publication comments relating to the Consent Decree. Comments should be addressed to the Assistant Attorney General, Environment and Natural Resources Division, and either e-mailed to pubcomment-ees.enrd@usdoj.gov or mailed to P.O. Box 7611, U.S. Department of Justice, Washington, DC 20044-7611, and should refer to United States v. Cardi Materials LLC, D.J. Ref. 90-5-1-1-09413.

The Consent Decree may be examined at the Office of the United States Attorney, District of Rhode Island, 50 Kennedy Plaza, Providence, RI, and at U.S. EPA Region 1, 1 Congress Street, Boston, MA. During the public comment period, the Consent Decree, may also be examined on the following Department of Justice Web site, to http://www.usdoj.gov/enrd/Consent_Decrees.html. A copy of the Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $15.25 (25 cents per page reproduction costs of Consent Decree and Appendices) payable to the U.S. Treasury or, if by e-mail or fax, forward a check in that amount to the Consent Decree Library at the stated address.

Maureen Katz,
Assistant Chief, Environmental Enforcement Section, Environment and Natural Resources Division.

[FR Doc. 2010-18073 Filed 7-22-10; 8:45 am]

BILLING CODE 4410-15-P